DEPARTMENT OF ENERGY

Federal Energy Regulatory Commission

Combined Notice of Filings #1

Take notice that the Commission received the following electric rate filings:

Docket Numbers: ER13-1430-008; ER10-1631-017; ER10-1854-017; ER10-1859-009; ER10-1872-009; ER10-1892-015; ER10-2678-018; ER10-2729-012; ER10-2739-028; ER10-2744-018; ER11-3320-017; ER11-3321-011; ER12-995-007; ER13-1561-008; ER13-2316-015; ER14-1219-012; ER14-19-016; ER14-2548-009; ER16-1652-016; ER16-1732-011; ER16-2405-011; ER16-2406-012; ER17-1494-003; ER17-1946-010; ER17-1947-005; ER17-1948-005; ER17-989-010; ER17-990-010; ER17-992-010; ER17-993-010; ER18-95-007; ER19-170-003; ER20-1440-003; ER20-660-003.

Applicants: Arlington Valley Solar Energy II, LLC, Armstrong Power, LLC, Aurora Generation, LLC, Bath County Energy, LLC, Bolt Energy Marketing, LLC, Buchanan Energy Services Company, LLC, Buchanan Generation, LLC, Centinela Solar Energy, LLC, Chambersburg Energy, LLC, Cherokee County Cogeneration Partners LP, Columbia Energy LLC, Doswell Limited Partnership, Gans Energy, LLC, Gateway Energy Storage, LLC, Helix Ironwood, LLC, Helix Maine Wind Development, LLC, Helix Ravenswood, LLC, LifeEnergy, LLC, LS Power Marketing, LLC, LSP University Park, LLC, Mobile Energy LLC, Ocean State Power LLC, Riverside Generating Company, L.L.C., Rockford Power, LLC, Rockford Power II, LLC, Santa Rosa Energy Center, LLC, Seneca Generation, LLC, Springdale Energy, LLC, Troy Energy, LLC, University Park Energy, LLC, Vista Energy Storage, LLC, Wallingford Energy LLC, West Deptford Energy, LLC, Yards Creek Energy, LLC.

Description: Notification of Change in Status of the LS MBR Sellers.

Filed Date: 8/13/20.

Accession Number: 20200813-5132.

Comments Due: 5 p.m. ET 9/3/20.

Docket Numbers: ER16-1404-003.

Applicants: New York Independent System Operator, Inc.

Description: Compliance filing: Compliance filing of BSM renewable exemption tariff provisions to be effective 6/9/2020.

Filed Date: 8/13/20.

Accession Number: 20200813-5097.

Comments Due: 5 p.m. ET 9/3/20.

Docket Numbers: ER19-1900-003.

Applicants: Golden Spread Electric Cooperative, Inc.

Description: Compliance filing: Order No. 845 Second Compliance Filing to be effective 5/20/2019.

Filed Date: 8/13/20.

Accession Number: 20200813-5128.

Comments Due: 5 p.m. ET 9/3/20.

Docket Numbers: ER19-1927-003.

Applicants: Portland General Electric Company.

Description: Compliance filing: Order 845 Compliance Filing #2 to be effective 5/22/2019.

Filed Date: 8/14/20.

Accession Number: 20200814-5008.

Comments Due: 5 p.m. ET 9/4/20.

Docket Numbers: ER19-2727-003.

Applicants: California Independent System Operator Corporation.

Description: Compliance filing: 2020-08-14 CCDEBE Compliance Filing to be effective 1/28/2020.

Filed Date: 8/14/20.

Accession Number: 20200814-5132.

Comments Due: 5 p.m. ET 9/4/20.

Docket Numbers: ER20-1867-001.

Applicants: AEP Texas Inc.

Description: Tariff Amendment: AEPTX-Coleman County EC-Golden Spread EC Interconnection Agreement-Amend Pending to be effective 9/1/2020.

Filed Date: 8/14/20.

Accession Number: 20200814-5070.

Comments Due: 5 p.m. ET 9/4/20.

Docket Numbers: ER20-1929-001.

Applicants: Baltimore Gas and Electric Company, PJM Interconnection, L.L.C.

Description: Tariff Amendment: BGE submits Response to Deficiency Letter in ER20-1929 to be effective 11/1/2020.

Filed Date: 8/14/20.

Accession Number: 20200814-5104.

Comments Due: 5 p.m. ET 9/4/20.

Docket Numbers: ER20-2048-001; ER20-2047-001.

Applicants: Ellwood Power, LLC.

Description: Second Supplement to June 12, 2020 Ellwood Power, LLC, et al. tariff filings.

Filed Date: 8/13/20.

Accession Number: 20200813-5131.

Comments Due: 5 p.m. ET 8/24/20.

Docket Numbers: ER20-2660-000.

Applicants: PJM Interconnection, L.L.C.

Description: § 205(d) Rate Filing: Original WMPA SA No. 5735; Queue No. AF2-281 to be effective 7/20/2020.

Filed Date: 8/13/20.

Accession Number: 20200813-5094.

Comments Due: 5 p.m. ET 9/3/20.

Docket Numbers: ER20-2661-000.

Applicants: PJM Interconnection, L.L.C.

Description: § 205(d) Rate Filing: Original WMPA SA No. 5734; Queue No. AF2-429 to be effective 7/27/2020.

Filed Date: 8/13/20.

Accession Number: 20200813-5116.

Comments Due: 5 p.m. ET 9/3/20.

Docket Numbers: ER20-2662-000.

Applicants: Tucson Electric Power Company.

Description: § 205(d) Rate Filing: East Line Central Line and West Line Solar Interconnection Agreement to be effective 10/13/2020.

Filed Date: 8/13/20.

Accession Number: 20200813-5129.

Comments Due: 5 p.m. ET 9/3/20.

Docket Numbers: ER20-2663-000.

Applicants: SR Snipesville, LLC.

Description: Baseline eTariff Filing: MBR Application to be effective 10/14/2020.

Filed Date: 8/14/20.

Accession Number: 20200814-5053.

Comments Due: 5 p.m. ET 9/4/20.

Docket Numbers: ER20-2664-000.

Applicants: NorthWestern Corporation.

Description: Request to Terminate Network Integration Transmission Service of NorthWestern Corporation.

Filed Date: 8/13/20.

Accession Number: 20200813-5186.

Comments Due: 5 p.m. ET 9/3/20.

Docket Numbers: ER20-2666-000.

Applicants: American Transmission Systems, Incorporated, PJM Interconnection, L.L.C.

Description: § 205(d) Rate Filing: ATSI submits ECSA No. 5654 to be effective 10/14/2020.

Filed Date: 8/14/20.

Accession Number: 20200814-5072.

Comments Due: 5 p.m. ET 9/4/20.

Docket Numbers: ER20-2667-000.

Applicants: South Field Energy LLC.

Description: Baseline eTariff Filing: Baseline new to be effective 8/15/2020.

Filed Date: 8/14/20.

Accession Number: 20200814-5077.

Comments Due: 5 p.m. ET 9/4/20.

Docket Numbers: ER20-2668-000.

Applicants: Mid-Atlantic Interstate Transmission, LLC, PJM Interconnection, L.L.C.

Description: § 205(d) Rate Filing: Mid-Atlantic Interstate Transmission, LLC filing of eight ECSAs to be effective 10/14/2020.

Filed Date: 8/14/20.

Accession Number: 20200814-5084.

Comments Due: 5 p.m. ET 9/4/20.

Docket Numbers: ER20-2669-000.

Applicants: Neosho Ridge Wind, LLC.

Description: Baseline eTariff Filing: Market-Based Rates Tariff Application to be effective 8/28/2020.

Filed Date: 8/14/20.

Accession Number: 20200814-5107.

Comments Due: 5 p.m. ET 9/4/20.

Docket Numbers: ER20-2670-000.

Applicants: Midcontinent Independent System Operator, Inc., ITC Midwest LLC.

Description: § 205(d) Rate Filing: 2020-08-14_SA 2877 ITC Midwest-SMMPA 1st Rev TIA to be effective 10/14/2020.

Filed Date: 8/14/20.

Accession Number: 20200814-5109.

Comments Due: 5 p.m. ET 9/4/20.

Docket Numbers: ER20-2671-000.

Applicants: Water Strider Solar, LLC.

Description: Baseline eTariff Filing: MBR Application to be effective 10/13/2020.

Filed Date: 8/14/20.

Accession Number: 20200814-5125.

Comments Due: 5 p.m. ET 9/4/20.

Docket Numbers: ER20-2672-000.

Applicants: Pacific Gas and Electric Company.

Description: § 205(d) Rate Filing: 8-14-20 Unexecuted Agreement, City and County of San Francisco WDT SA (SA 275) to be effective 10/14/2020.

Filed Date: 8/14/20.

Accession Number: 20200814-5127.

Comments Due: 5 p.m. ET 9/4/20.

Docket Numbers: ER20-2673-000.

Applicants: New York Independent System Operator, Inc, New York State Electric & Gas Corporation.

Description: § 205(d) Rate Filing: Joint filing of LGIA among NYISO, NYSEG and Eight Point, SA. No. 2452 to be effective 7/31/2020.

Filed Date: 8/14/20.

Accession Number: 20200814-5148.

Comments Due: 5 p.m. ET 9/4/20.

Docket Numbers: ER20-2674-000.

Applicants: Central Maine Power Company.

Description: § 205(d) Rate Filing: Bilateral, Cost-Based TSAs Incorporating Second Amendments (Eversource) to be effective 10/14/2020.

Filed Date: 8/14/20.

Accession Number: 20200814-5157.

Comments Due: 5 p.m. ET 9/4/20.

Docket Numbers: ER20-2675-000.

Applicants: Central Maine Power Company.

Description: § 205(d) Rate Filing: Bilateral, Cost-Based TSAs Incorporating Second Amendments (National Grid) to be effective 10/14/2020.

Filed Date: 8/14/20.

Accession Number: 20200814-5158.

Comments Due: 5 p.m. ET 9/4/20.

Docket Numbers: ER20-2676-000.

Applicants: Central Maine Power Company.

Description: § 205(d) Rate Filing: Bilateral, Cost-Based TSAs Incorporating Second Amendments (Unitil) to be effective 10/14/2020.

Filed Date: 8/14/20.

Accession Number: 20200814-5160.

Comments Due: 5 p.m. ET 9/4/20.

Docket Numbers: ER20-2677-000.

Applicants: Central Maine Power Company.

Description: § 205(d) Rate Filing: Bilateral, Cost-Based TSAs Incorporating Second Amendments (HQUS Eversource) to be effective 10/14/2020.

Filed Date: 8/14/20.

Accession Number: 20200814-5161.

Comments Due: 5 p.m. ET 9/4/20.

Docket Numbers: ER20-2678-000.

Applicants: Central Maine Power Company.

Description: § 205(d) Rate Filing: Bilateral, Cost-Based TSAs Incorporating Second Amendments (HQUS National Grid) to be effective 10/14/2020.

Filed Date: 8/14/20.

Accession Number: 20200814-5162.

Comments Due: 5 p.m. ET 9/4/20.

Docket Numbers: ER20-2679-000.

Applicants: Central Maine Power Company.

Description: § 205(d) Rate Filing: Bilateral, Cost-Based TSAs Incorporating Second Amendments (HQUS Unitil) to be effective 10/14/2020.

Filed Date: 8/14/20.

Accession Number: 20200814-5165.

Comments Due: 5 p.m. ET 9/4/20.

Docket Numbers: ER20-2680-000.

Applicants: Central Maine Power Company.

Description: § 205(d) Rate Filing: Bilateral, Cost-Based TSAs Incorporating Second Amendments (HQUS Additional) to be effective 10/14/2020.

Filed Date: 8/14/20.

Accession Number: 20200814-5167.

Comments Due: 5 p.m. ET 9/4/2.

Take notice that the Commission received the following public utility holding company filings:

Docket Numbers: PH20-16-000.

Applicants: LS Power Development, LLC.

Description: LS Power Development, LLC submits FERC-65-B Notice of Non-Material Change in Fact to Waiver Notification.

Filed Date: 8/13/20.

Accession Number: 20200813-5110.

Comments Due: 5 p.m. ET 9/3/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 14, 2020.
Nathaniel J. Davis, Sr.,
Deputy Secretary.

[FR Doc. 2020-18281 Filed 8-19-20; 8:45 am]

BILLING CODE 6717-01-P